DEPARTMENT OF HOMELAND SECURITY

Federal Emergency Management Agency

44 CFR Part 328

[Docket ID FEMA-2020-0018]

RIN 1660-AB01

Prioritization and Allocation of Certain Scarce or Threatened Health and Medical Resources for Domestic Use

Correction

In rule document 2020-07659, appearing on pages 20195 through 20200 in the issue of Friday, April 10, 2020 make the following correction.

On page 20200, in the third column, on the second line from the bottom, “Filed 4-8-20” should read “Filed 4-7-20”.

[FR Doc. C1-2020-07659 Filed 4-22-20; 8:45 am]

BILLING CODE 1300-01-D